DEPARTMENT OF TRANSPORTATION

Federal Aviation Administration

14 CFR Part 71

[Docket No. FAA-2022-1209; Airspace Docket No. 22-AWA-5]

RIN 2120-AA66

Amendment of Class C Airspace; Evansville, IN

AGENCY: Federal Aviation Administration (FAA), DOT.

ACTION: Final rule.

SUMMARY: This action amends the Evansville Regional Airport, IN, Class C airspace description to update the airport reference point (ARP) geographic coordinates for the Evansville Regional Airport and the Skylane Airport to match the FAA's National Airspace System Resource (NASR) database information. Additionally, this action makes technical amendments to the airspace description header information by changing the title of the airspace area and adding the Pocket City, IN (PXV), VHF Omnidirectional Range and Tactical Air Navigation (VORTAC) navigational aid. Finally this action amends the airspace description by correcting the Airport/Facility Directory reference. This action does not change the boundaries, altitudes, or operating requirements of the Class C airspace area.

DATES: Effective date 0901 UTC, February 23, 2023. The Director of the Federal Register approves this incorporation by reference action under 1 CFR part 51, subject to the annual revision of FAA Order 7400.11 and publication of conforming amendments.

ADDRESSES: FAA Order 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the listed airports ARP geographic coordinates information, amends the airspace description header information by changing the airspace title and adding the Pocket City VORTAC. Finally, this action corrects the airspace description by updating the Airport/Facility Directory reference.

History

Class C airspace areas are designed to improve air safety by reducing the risk of midair collisions in high volume airport terminal areas and to enhance the management of air traffic operations in that area. During a recent inquiry regarding the Evansville Regional Airport, IN, Class C airspace description and the surface area cutout for the Skylane Airport, the FAA identified that the Evansville Regional Airport and Skylane Airport ARP geographic coordinates were incorrect. This action updates the ARP geographic coordinates for both airports listed in the airspace description to coincide with the FAA's NASR database information. After reviewing the existing airspace description, this action also makes technical amendments to the airspace description header information by changing the title of the Class C airspace area to reflect city and state instead of the airport name the airspace is designated around and by adding the Pocket City, IN (PXV), VORTAC since it is used to define the surface area cutout for the Skylane Airport. Further, a technical amendment to the airspace description corrects the Airport/Facility Directory reference. There are no changes to the boundaries, altitudes, or air traffic control services resulting from this action.

Class C airspace areas are published in paragraph 4000 of FAA Order 7400.11G, dated August 19, 2022, and effective September 15, 2022, which is incorporated by reference in 14 CFR 71.1. The Class C airspace listed in this document will be published subsequently in FAA Order JO 7400.11.

Availability and Summary of Documents for Incorporation by Reference

This document amends FAA Order 7400.11G, Airspace Designations and Reporting Points, dated August 19, 2022, and effective September 15, 2022. FAA Order 7400.11G is publicly available as listed in the ADDRESSES section of this document. FAA Order 7400.11G lists Class A, B, C, D, and E airspace areas, air traffic service routes, and reporting points.

The Rule

This action amends 14 CFR part 71 by amending the Evansville Regional Airport, IN, Class C airspace description to update the Evansville Regional Airport and Skylane Airport ARP geographic coordinates contained in the airspace description. The ARP geographic coordinates for the Evansville Regional Airport are changed from “lat. 38°02′17″ N, long. 87°31′50″ W.” to “lat. 38°02′27″ N, long. 087°31′43″ W.” and for the Skylane Airport are changed from “lat. 38°01′00″ N, long. 87°35′30″ W.” to “lat. 38°00′43″ N, long. 087°35′42″ W.”. These ARP geographic coordinates changes are made to coincide with the FAA's NASR database information. Additionally, this action makes technical amendments to the airspace description header by changing the airspace title from the “Evansville Regional Airport, IN” to “Evansville, IN” and by adding the Pocket City, IN (PXV), VORTAC that is used to define the Class C surface area cutout. Finally, this action makes a technical amendment to the airspace description by correcting the “Airport/Facility Directory” reference to the “Chart Supplement”. These technical amendments are made to comply with airspace legal description guidance contained in FAA Order JO 7400.2.

This action does not affect the boundaries, altitudes, or operating requirements of the airspace. Therefore, notice and public procedure under 5 U.S.C. 553(b) is unnecessary.

FAA Order 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action making technical amendments to the Evansville, IN, Class C airspace description qualifies for categorical exclusion under the National Environmental Policy Act (42 U.S.C. 4321 et seq.) and its implementing regulations at 40 CFR part 1500, and in accordance with FAA Order 1050.1F, Environmental Impacts: Policies and Procedures, paragraph 5-6.5a, which categorically excludes from full environmental impact review rulemaking actions that designate or modify classes of airspace areas, airways, routes, and reporting points. Since this action does not change the boundaries, altitudes, or operating requirements of the Class C airspace area, and only amends the legal description to contain the current Evansville Regional Airport and Skylane Airport ARP geographic coordinates, this airspace action is not expected to result in any potentially significant environmental impacts. In accordance with FAA Order 1050.1F, paragraph 5-2 regarding Extraordinary Circumstances, this action has been reviewed for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11G, Airspace Designations and Reporting Points, dated August 19, 2022, effective September 15, 2022, is amended as follows:

Paragraph 4000 Class C Airspace.

* * * * *

AGL IN C Evansville, IN [Amended]

Evansville Regional Airport, IN

(Lat. 38°02′27″ N, long. 087°31′43″ W)

Skylane Airport, IN

(Lat. 38°00′43″ N, long. 087°35′42″ W)

Pocket City, IN (PXV), VORTAC

(Lat. 37°55′42″ N, long. 087°45′45″ W)

That airspace extending upward from the surface to and including 4,500 feet MSL within a 5-mile radius of the Evansville Regional Airport, excluding that airspace extending upward from the surface to 1,600 feet MSL beginning where the Pocket City VORTAC 057° radial crosses the 5-mile ring, thence northeast via the Pocket City VORTAC 057° radial to intercept a 1¼-mile radius of the Skylane Airport, thence counterclockwise via the 1¼-mile radius to the 360° bearing from the Skylane Airport, thence due west to the 5-mile ring; and that airspace extending upward from 1,600 feet MSL to and including 4,500 feet MSL within a 10-mile radius of the Evansville Regional Airport. This Class C airspace area is effective during the specific days and hours of operation of the Evansville Tower and Approach Control Facility as established in advance by a Notice to Airmen. The effective dates and times will thereafter be continuously published in the Chart Supplement.

Issued in Washington, DC, on November 16, 2022.
Scott M. Rosenbloom,
Manager, Airspace Rules and Regulations.

[FR Doc. 2022-25388 Filed 11-21-22; 8:45 am]

BILLING CODE 4910-13-P